NUCLEAR REGULATORY COMMISSION

[Docket No. 50-305]

Dominion Energy Kewaunee, Inc.; Notice of Withdrawal of Application for Amendment to Facility Operating License

The U.S. Nuclear Regulatory Commission (the Commission) has granted the request of Dominion Energy Kewaunee, Inc. (the licensee) to withdraw its April 6, 2006, application for proposed amendment to Facility Operating License No. DPR-43 for the Kewaunee Power Station, located in Kewaunee County, Wisconsin.

The proposed amendment would have revised the facility Updated Safety Analysis Report to allow the use of a different methodology for determining the design requirements necessary for protecting safety-related equipment from damage by tornado generated missiles.

The Commission had previously issued a Notice of Consideration of Issuance of Amendment published in the Federal Register on May 23, 2006 (71 FR 29673). However, by letter dated March 19, 2007, the licensee withdrew the proposed change.

For further details with respect to this action, see the application for amendment dated April 6, 2006, and the licensee's letter dated March 19, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 26th day of March 2007.
For the Nuclear Regulatory Commission.
Robert F. Kuntz,
Project Manager, Plant Licensing Branch III-1, Division of Operating Reactor Licensing, Office of Nuclear Reactor Regulation.

[FR Doc. E7-6138 Filed 4-2-07; 8:45 am]

BILLING CODE 7590-01-P